DEPARTMENT OF LABOR

Office of the Secretary

Agency Information Collection Activities; Submission for OMB Review; Comment Request; Domestic Agricultural In-Season Wage Report

ACTION: Notice.

SUMMARY: On July 31, 2013, the Department of Labor (DOL) will submit the Employment and Training Administration (ETA) sponsored information collection request (ICR) revision titled, “Domestic Agricultural In-Season Wage Report,” to the Office of Management and Budget (OMB) for review and approval for use in accordance with the Paperwork Reduction Act (PRA) of 1995 (44 U.S.C. 3501 et seq.).

DATES: Submit comments on or before August 30, 2013.

ADDRESSES: A copy of this ICR with applicable supporting documentation; including a description of the likely respondents, proposed frequency of response, and estimated total burden may be obtained free of charge from the RegInfo.gov Web site at http://www.reginfo.gov/public/do/PRAViewICR?ref_nbr=201305-1205-002 (this link will only become active on August 1, 2013) or by contacting Michel Smyth by telephone at 202-693-4129 (this is not a toll-free number) or sending an email to DOL_PRA_PUBLIC@dol.gov.

Submit comments about this request to the Office of Information and Regulatory Affairs, Attn: OMB Desk Officer for DOL-ETA, Office of Management and Budget, Room 10235, 725 17th Street NW., Washington, DC 20503, Fax: 202-395-6881 (this is not a toll-free number), email: OIRA_submission@omb.eop.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: The ETA needs prevailing wage rate information in order to determine the appropriate minimum wage an agricultural employer utilizing the H-2A program, allowing temporary employment of alien agricultural and logging workers in the United States, must pay to foreign and domestic farmworkers. State Workforce Agencies are charged with collecting the data from agricultural employers and submitting reports to the ETA. The wage rates cover crop and livestock as well as logging activities. Domestic migrant and local seasonal as well as foreign H-2A farmworkers are hired for these jobs.

This ICR has been classified as a revision, because the Agency seeks OMB approval to streamline the information collection process by removing outdated questions on Forms ETA-232 and ETA-232A. In addition, the Agency seeks approval to move the instructions on how to respond and calculate a prevailing wage determination from ETA Handbook 385 into the instructions for the forms to make them easier to find. For additional substantive information about this ICR, see the related notice published in the Federal Register on May 30, 2013 (78 FR 32460).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0017. The current approval is scheduled to expire on July 31, 2013; however, it should be noted that existing information collection requirements submitted to the OMB receive a month-to-month extension while they undergo review. New requirements would only take effect upon OMB approval.

Interested parties are encouraged to send comments to the OMB, Office of Information and Regulatory Affairs at the address shown in the ADDRESSES section within 30 days of publication of this notice in the Federal Register. In order to help ensure appropriate consideration, comments should mention OMB Control Number 1205-0017. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Domestic Agricultural In-Season Wage Report.

OMB Control Number: 1205-0017.

Affected Public: Private Sector—farms—and State, Local, and Tribal Governments.

Total Estimated Number of Respondents: 24,662.

Total Estimated Number of Responses: 26,708.

Total Estimated Annual Burden Hours: 16,002.

Total Estimated Annual Other Costs Burden: $0.

Dated: July 25, 2013.
Michel Smyth,
Departmental Clearance Officer.

[FR Doc. 2013-18363 Filed 7-30-13; 8:45 am]

BILLING CODE 4510-FP-P